DEPARTMENT OF THE INTERIOR

Bureau of Indian Affairs

Indian Gaming

AGENCY: Bureau of Indian Affairs, Interior.

ACTION: Notice of approved Class III Gaming Compacts.

SUMMARY: This notice publishes the Approval of the Tribal-State Compacts between the Absentee Shawnee Tribe, Comanche Nation, Miami Tribe and the Cherokee Nation of Oklahoma and the State of Oklahoma.

EFFECTIVE DATE: January 27, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Pub. L. 100-497, 25 U.S.C. 2710, the Secretary of the Interior shall publish in the Federal Register notice of the approved Tribal State compacts for the purpose of engaging in Class III gaming activities on Indian lands. The Principal Deputy Assistant Secretary—Indian Affairs, Department of the Interior, through his delegated authority, has approved the Class III gaming compacts between the Absentee Shawnee Tribe, Comanche Nation, Miami Tribe and the Cherokee Nation of Oklahoma and the State of Oklahoma. These Compacts authorize Indian tribes to engage in certain Class III gaming activities, provides for certain geographical exclusivity, limits the number of gaming machines at existing racetracks, and prohibits non-tribal operation of certain machines and covered games.

Michael D. Olsen,
Acting Principal Deputy Assistant Secretary—Indian Affairs.

[FR Doc. 05-1468 Filed 1-26-05; 8:45 am]

BILLING CODE 4310-4N-P